DEPARTMENT OF DEFENSE

Department of the Air Force

Notice of Intent To Prepare a Supplemental Environmental Impact Statement for United States Air Force F-35a Operational Beddown—Pacific

AGENCY: United States Air Force, DOD.

ACTION: Notice of intent.

SUMMARY: The U.S. Air Force (USAF) is issuing this notice of intent (NOI) to prepare a Supplemental Environmental Impact Statement (SEIS) to address changes made since the February 2016 completion of the F-35A Operational Beddown—Pacific EIS (referred herein as the original EIS) and signature of the Record of Decision (ROD) in April 2016, announcing the Air Force decision to beddown two squadrons of F-35A aircraft at Eielson AFB, Alaska. The original EIS evaluated infrastructure construction, demolition, renovations, additional personnel, and increases in aircraft operations at the airfield and in the Joint Pacific Alaska Range Complex (JPARC) airspace. However, the Air Force is supplementing the original EIS due to projects being identified after the ROD was signed that are required to support the F-35 beddown at Eielson AFB. These projects are relevant to environmental concerns and provide new circumstances and information relevant to Air Force decision-making and mitigation activities.

Scoping and Agency Coordination:To effectively define the full range of issues to be evaluated in the SEIS, the USAF will determine the scope of the analysis by soliciting comments from interested local, state and federal elected officials and agencies, as well as interested members of the public and others. This is being done by providing a Web site where the public and lodge their comments and/or by mailing comments to the base Civil Engineering Squadron.

ADDRESSES: The project Web site (https://www.pacaf-f35aeis.com) provides more information on the SEIS and can be used to submit scoping comments. Scoping comments may also be submitted to Attn: F-35 Beddown SEIS, 354 CES/CEI, P.O. Box 4743, Eielson AFB, AK 99702.

Comments will be accepted at any time during the environmental impact analysis process. However, to ensure the USAF has sufficient time to consider public input in the preparation of the Draft SEIS, scoping comments should be submitted to the Web site or the address listed above by May 15, 2017.

SUPPLEMENTARY INFORMATION: The Air Force proposes to implement three actions at Eielson AFB. They are independent of each other and have standalone value for improving facility and infrastructure development in support of the F-35A beddown at Eielson AFB. The three are to provide additional stormwater runoff control; develop equipment and material laydown areas; and provide additional heat, water, and power to the South Loop. While full implementation of all of the proposed actions is desired, and results in the greatest benefit for the beddown, each of the proposals if implemented alone would have a positive effect on facility and infrastructure development on the base. The no-action alternatives will be addressed in the SEIS as well.

The additional stormwater runoff control measures would include up to 20 acres to accommodate additional conveyance and infiltration areas. The Air Force identified several areas, adjacent to F-35A facilities, to allow flexibility in conveyance and infiltration system designs. Stormwater control measures can include, but are not limited to, sloping paved areas so that water flows to adjacent vegetated areas and using rocks to fill in low areas so that ponds would not be created. Wildlife in an active airfield poses a real bird/wildlife aircraft strike hazard; therefore, minimizing standing water is a primary consideration when designing stormwater runoff control systems.

The equipment and material laydown areas would entail up to 60 acres, adjacent to F-35A facilities already identified in the original EIS. Because of the remote location, material would need to be stockpiled and stored for use when they are needed. Additionally, the areas would accommodate the construction contractors' equipment and construction worker vehicles involved in this large infrastructure development.

Because of the severe arctic environment and extreme temperature differences (exceeding 150 degrees Fahrenheit), Eielson AFB maintains an underground utility distribution system. Under this proposed action, a utility corridor, both underground for steam, water, and condensate, and above ground for power, would be established to connect from the existing Central Heat and Power Plant and to the South Loop where F-35A facilities identified in the original EIS are being constructed. Depending on the route, the utiliduct could extend up to 2 miles.

The proposed actions at Eielson AFB have the potential to be located in a floodplain and/or wetland. Consistent with the requirements and objectives of Executive Order (EO) 11990, “Protection of Wetlands,” and EO 1988, “Floodplain Management,” as amended by EO 13690, “Establishing a Federal Flood Risk Management Standard and a Process for Further Soliciting and Considering Stakeholder Input,” state and federal regulatory agencies with special expertise in wetlands and floodplains will be contacted to request comment. Consistent with EO 11988, EO 13690, and EO 11990, this Notice of Intent initiates early public review of the proposed actions and alternatives, which have the potential to be located in a floodplain and/or wetland.

Henry Williams,
Acting Air Force Federal Register Liaison Officer.

[FR Doc. 2017-06175 Filed 3-28-17; 8:45 am]

BILLING CODE 5001-10-P